DEPARTMENT OF THE TREASURY

Internal Revenue Service

Quarterly Publication of Individuals Who Have Chosen To Expatriate, as Required by Section 6039G

AGENCY: Internal Revenue Service (IRS), Treasury.

ACTION: Notice.

SUMMARY: This notice is provided in accordance with IRC section 6039G, as amended, by the Health Insurance Portability and Accountability Act (HIPPA) of 1996. This listing contains the name of each individual losing their United States citizenship (within the meaning of section 877(a) or 877A) with respect to whom the Secretary received information during the quarter ending March 31, 2011.

Last name | First name | Middle name/initials
ABA | MAUREEN |
ABASI | HAJIYA |
ABRAHAMS | STEPHANIE | JANE
ABRIC | ISABELLE | H
ACKERMANN | HANSPETER |
AELLIG | PETER | ANDREAS
AGARWAL | MUKUL |
AL ROMAITHI | MAJED | MOHAMED DHAHI
ALBERS-SCHOENBERG | BARBARA | ELISABETH
ALGHANIM | SAMAR | L
ALLAN | WILLIAM | A
ALLEN | JUDITH | S
AMON | ALBERT | MAXIMILIAN
APPS | VINCENT |
ATWATER | ROBERT | JAMES G. M.
BABB | JOHN | GREGORY
BAILEY | KEITH |
BARKER | DANIEL | PETER DAVIDGE
BARNES | SUSAN | LOVELL
BARTELT, MD | DETLEF |
BARTER | CHRISTOPHER | MICHAEL
BAUMANN | REGULA |
BAUMER | MARCEL | CHRISTIAN
BEAUMAN | CAROLINE | ANGELA
BEAUMAN JR | CHRISTOPHER | ALFRED
BECK | WILLIAM | ALBERT
BECKWITH | MERIWETHER | ATHEISTAN TAVIS
BEIJERMAN | ANN | FRANCES LOUISE
BENAZZI | HELYEYYE | VIRGINIA
BERG | MARCIA | WRAY
BERNARD | BARBARA | ANN
BERNEGGER | URS | J.
BIRCHER | REGULA | ANNA
BIRCHLER | EUGENE | RICHARD
BLANCPAIN | PHILIPPE | PIERRE
BLUM | MARTHA |
BOEHM | MICHAEL | SCOTT
BOMPAS | GEORGE | G.
BONDOUX | JAMES | ANDRE
BONELLI | KENNETH | SWIGERT
BONGIORNO | LEONARDO |
BORDEN | MARK | ANTHONY
BOSTICK | HOLLY |
BOULANGE | DANIEL |
BOWERS | MICHELLE | CHRISTINE
BRICKLEY JR | LON | CRAWFORD
BRUNNER | URSULA | ELISABETH
BUCHER | MARC | ROBERT
BURLET-BLATTMANN | MAJA | ANDREA
CADARSO | CARLOS |
CALAME | STEVEN | NICOLAS GEORGE
CANOEN | KIRSTEN | TAUCHER
CAREY | PATRICK | GEORGE
CATTAUI | MICHAEL | TAREK
CHAN | CHRISTOPHER | JOSEPH
CHAN | GLADYS | LO
CHAN | JAMIE | S Y
CHAN | SUSAN | OI LIN LEUNG
CHAN | SUSANNE | SU EN
CHAN | VINCE | CHI YAN
CHANG | BRIAN | HONGWEI
CHANG | JOSEPH | CHO YAM
CHANG | LIANG | RU
CHAOUL | RANDA | M
CHAVEZ | NATALIE | S
CHEN | DERRICK | TZE SHIEN
CHEN | MARK | LONG
CHESLUK | BEAU | NER
CHEUNG | RONALD | YAT-SAU
CHIEN | CHIH | CHIANG
CHOI | FRANKY | MING CHIT
CHOI | JONATHAN | GAR CHOY
CHONG | KIL | YON
CHONG | SORA | HAE
CHOU | YU-KUNG |
CHOW | ALEXANDER | YUE NONG
CHU | ROGER | PAK LOK
CHUA | MARY ANNE | SHU-HUI
CHUA | TIMOTHY | DAVID
CHUNG | HYUNG | KWON
CIOFFI | ELAINE | FRANCES
CIOFFI | FRANCESCO | PIETRO
COLEMAN | HYUN | SUN
COLLINS-RECTOR | MARC | JOHN
COSTLETOS | PHILLIPPE |
COWDY | DENA | KAY WADE
COWDY | KATHARINE | JANE
CRAIG | GRENVILLE | VERNON
CRAMER | JOSEPH | CARL
CRISSEY | CHARLES | ANDREW
CUIC | TATJANA |
DAETWYLER | PETER |
DAETWYLER | ROSEMARIE |
DAILLY | MONIRA | BEATRICE
DANIELL | MARK | HAYNES
DANIELS | EDWIN | IAN
DAVID | GUY |
DE BORCHGRAVE | SEMIRA |
DE LIMA | VIVIETTE | E
DE MESTRAL | DARCY | AYMON
DE MICHAEL | RYAN | NICOLA
DE RHAM | CAROLINE | ANNE
DEAVILLE | MATTHEW |
DECKER | RICHARD | EUGENE
DEL | MARC | ANTONIO
DEMAUREX | JACQUES | ANTOINE
DEMORTIER | ALEXANDRA |
DEMUTH | STEPHANIE | BEATRICE
DIAMOND | MATTHEW | JARED
DIAMOND | PATRIZIA |
DIAMOND | WILLIAM | STEVEN
DIAMOND | ZACHARY | ADAM
DINEMI | MANFREDI | UCELLI
DORMANDY | ALEXIS | PAUL MIDDLETON
DREIDING | ERIC | WERNER
DREIDING | KARIN |
DRESSLER | KURT | ALBERT
DRESSLER | SUSANNE | KATHARINA
DUERSTELER | MICHAEL |
EADEH | EDWARD | MICHAEL
EARLE | ELIZABETH | STEVENS
EBNER | MANUEL |
EDWARDS | HEATHER | BENNETT
EDWARDS | STEPHEN |
EGLI | CAROLINE | ANNE
ELKOREK | MAYA |
EMERSON | BARBARA | MARIE
EMERY | JEAN | CHRISTOPHE
FACKELMAYER | JONATHON | ORDWAY
FAERMARK | NICOLE |
FARRAR | LISA | G.
FILIPPI | EDWARD | CHARLES
FISCHER | ANA | MARIA
FOSTER III | ROBERT | PORTER
FOSTER, NEE WIELANDT | DORA |
FRANK | CHRISTOPH |
FUKSMAN | SABRINA |
FUNG | MAGNUS | MAN KIT
GARCIA | PATRICIA | L
GARDNER | KIM |
GEICKE | JOHANNA | RACHEL KATHARINE
GERSBACH | SANDRA | NAOMI
GIESMANN | BENJAMIN | THOMAS
GLAUSER | HONG | LI
GLAUSER | OLIVIER | CHARLES EDOUARD
GOETSCHEL | CORINNE |
GOROKHOFF | PATRICIA | HELENE
GREER | JONATHON | NEWTON
GREGSON | OLIVER | C.
GROENEVELD | SAM | ARIFIEN
GROLLEMUND | MATTHIEU | N.
GRUNDLER | SUSANNE |
GU | BRIAN | HONGDI
GUERLAIN | CLAIRE | ARIANE
GUSTAFSON | MARK | ALEXANDER
HAGERTY | CAROLINE | SOPHIE
HAGGER | MARGRIT | MARIE
HAN | DENNIS | CHIA-YIN
HAN | HELEN |
HATZ | PETER | KARL
HEEREMA | ANNETTE | BEATRIX
HEEREMA | KEVIN | PETER
HEEREMA | SONJA | ELISABETH
HELKE | NICHOLAS | CHRISTOPHER PHILIP
HENRY | BILLY | EDWARD
HIRSCH | COLETTE | ROSANNE
HO | CHAK | KIE
HOFFMANN | HERBERT |
HOLT | MICHAEL | LAWRENCE
HOLTER | KARL | GUNNAR
HOLTERMANN | UTE | CHRISTIANE
HOOLEY | BLAIR | TYRONE
HORIGUCHI | HISAO |
HSU | CHARLES |
HSU | TING | TING
HU | APRIL | SWANDO
HUANG | TAO |
HUBER | EDWINA | VICTORIA
HUERZELER | RITA |
HWANG | ROBIN |
ILBERG | KLAUS | PETER
IN DER SMITTEN | JOACHIM |
INGRAM | JOAN | BAILEY
INGRAM | WILLIAM | THOMAS
ITSCHNER | ROBERT | NILS
JACKSON | CRAIG | PAUL
JEN | JIMMY |
JENSEN | VIRGINIA | ALLEN
JEPSEN | OLAF | NORMAN
JOHNSTON | ANNIE | F
JONES | TIMOTHY | TAYLOR
KAISER | DONALD | LANCE
KAITHAN | ANDREAS | KURT
KANG | MICHAEL |
KATO | KAORU |
KATO | NOBUKO |
KEATS | BARRY | R
KEMELMAN | ARNON |
KERR | MAYA | CHANTAI
KEUNG | PAUL | HINSUM
KEUNG | PAUL | H
KEWAIRAMANI | SONALI | CHANDROO
KIFT | JANE | SWALLOW
KIM | DAVID | DONG-WOOK
KIM | JIN | HOI
KIM | JOHNNY |
KIM | SUNG | A
KING | STEPHEN | CHANG-MIN
KLARMANN | GLORIA | ROSITA
KLEIN | PHILIP | JOHN
KOCH | ROBERT | MICHAEL
KOH | SEAN | JIAN-EN
KOJIMA | HIDEAKI |
KOO | TSE | HAU WELLINGTON
KOTYCZKA | STEPHAN | WILLI
KOZICKI | SHARON |
KRAEUTLER | VINCENT |
KUNKEL | FLORENCE |
KUNZ | KENNETH | EDWARD
KWAN | WING | NAM
KWEE | MELISSA | MEI-WAN
KWIST | JAKOB | J
KWONG | DAVID | SZE MING
KWONG | JUDITH | KAM CHU LEUNG
KWONG | SZE | WHY
LA PLANTE | INGRID | ANNA DORA
LAI | MARTIN |
LAI | STEFANIE | YING
LAIDLAW | MARIE | CHRISTINE
LAM | DOUGLAS | KING TAK
LANDO | CHRISTIAN |
LAU | WAN | HANG DOROTHY
LAWRENCE | MATTHEW | K.
LEBLANC | BRUNO | C
LEE | ALEXANDER | WEI SENG
LEE | AMELIA | QIU-YAN
LEE | HENRY | DA-CHENG
LEE | KYUNG | HEE
LEE | ROCKY |
LEE | SUMIN |
LEE | SUN | IM
LEE | YI-THE |
LEOPOLD-METZGER | PHILIPPE | RENE
LEUENBERGER-MORF | MICHELE | ELISABETH
LEUNG | JASON | CHAK-HAY
LEVIN-BRUCKMANN | SARA | ANDREA
LI | ALLISON | MEGAN SEE HUI
LIECHTI | AUDREY | PAULINE
LIM | CHRISTOPHER |
LIM | SI | HONG
LING | TERESA | CHI WO
LIU | CHARLENE | CHEUK LAM RACHEAL
LIU | K | ANDERS MAURITZON
LIU | KAY |
LIUZZI | MONIQUE | MARGRIT
LIVINGSTON | NEIL | DAVID
LO | ALEXANDER | CHUN HIM
LO | EDDY | WAI YIP
LOFTIN | NORMAN | FRANKLIN
LOUGHRIN | TAMARA | ZIMMERMAN
LOUGHRIN | TIMOTHY | JOSEPH
LOVETT | LINDA | BARNES
LUNDBERG | THOMAS | CARL
LUSH | LOUISIANA |
MAGNONI | GRACIELA | MARIE
MARLAND | JANE | GAIL HENLEY
MARSHALL | CHRIS | N
MASON | JUDITH | C
MASON | REX | T
MATSGARD | PEDER | JAN ERIC
MAWDSLEY | EVAN |
MAYER | CATHERINE | NICOLETTE
MC CANDLESS | KATHARINE | HASTINGS
MELLORS | JOANNA | SUSAN
METZGER NEE DEGEEST | INJA |
MIHIC | NIKOLA |
MIODUSKI | DARIUSZ |
MOE | TIMOTHY | HAMILTON
MOGHAL | ERICA |
MOLET | JENNIFER | ANN
MORAND | LAURENCE | CHRISTIANE
MOSER | MIRJAM | CAROLINE
MOSSERI-MARLIO | ANNE |
MUENTENER | MARCUS | ERWIN
MUKUNOKI | NASAKI | WILLIAM
MULHAUSER | GREGORY | ROBERT
MURRAY | TOVE | LIANA
NAGY | MARKUS | MICHAEL
NARGOLWALA | APARNA |
NEEDHAM | DAVID | FREDERICK
NEEDHAM | DOROTHY |
NEO | MICHELLE | WEN-PING
NEUWEILER | DIETER | JOSEPH
NEUWIRTH | PEGGY | EVELYN
NG | AARON | RYU
NIEDERER | SILVIA |
NIP | AARON | YAU-WAI
NISHIKAWA | TOMOHIRO |
NOLET | AUGSTINUS | M
ODDY | JEAN | RACLIN
ODDY | ROBERT | JOHN
ODOK | HAYDAR | ULVI
OH | OWK | SUN
O'HANA | MORGAN | BLANCHE-JOSABETTE
O'HARA | THOMAS | P.
OHIGASHI | HIROSHI |
OTSUKA | KOJI |
OWENS | BRIAN | BRASHEARS
OWENS | MARK | DAVISON
PALANDRI | EDWARD | M.
PALANDRI | ROSA |
PAN | LINCOLN | LIN FENG
PAPADIMITRIOU | ALEXANDER | DIMITRI
PARSONS | YONG | CHUN
PATEL | PALLAVI | DINKARBHAL
PELHAM | HENRY | CYRIL
PIDERIT | BARBARA | CHUDERSKI
PIDERIT | FRED | WILLIAM
PLASCHKE | KARIN | S
POHNDORFF | JOHN | EDWARD
POLITO | PAUL | JEFFREY
POWELL | SHAUNA | MARGARET
POWER | B | NADINE
PRAKASH | ANAND |
PROTONOTARIOS | EMMANUIL | I
PYTYNIA | JANET | MONICA
QUASHA | WAYNE | GRANT
QUIMBY | ERIC | EDWARD CHADWICK
RAVAT | LAURENCE |
RAVINDRAN | JAYARATNAM | ANTON
RECHNER | PETER | MAX
RECHNER-BRINK | DESIREE | M L
REGAN | MATTHEW | JAMES PATRICK
REIMAN | ANDRE | MARTIN
REINSHAGEN | THOMAS | OLIVER
REUBEN | JAMES | ADAM
RIBI | DOMINIK |
RICE | PETER | ANDREAS
RICHARDSON | FRANCOIS |
RIDDERVOLD | SVEN | JULIUS
RITTER | NICHOLAS | OLIVER
RITTER | NICHOLAS | OLIVER
ROBINSON | HUNG | SUN
ROCKSON | JOSEPH | KWABENA MANBOAH
ROM | KAREN | ORA
ROMELL | CARL | JESPER
ROSE | KATHLEEN |
ROUSSEAU | HUGUES | REAL
RUDD | EMIL |
RUMBOLD | FRANCES | ANN HAWKES
RUPPE | SUSANNE | TANNER
SAILORS | THOMAS | CHARLES
SAI-NGARM | JANTHIMA |
SALVATI | PASCAL | EDUARDO ANDREAS
SALWICZEK | CHRISTINE | ANGELA
SAOUD | MAYA | Z
SARKESIAN | MICHAEL | S
SAXER | MARIANNE |
SAXER | MARKUS |
SCHILD | CAROL | PULFER
SCHLEIMINGER | DORRIT | GABRIELE
SCHMID | ANDREA | MARIA
SCHMID | EVELYN | DENISE
SCHNEIDER | CATHLEEN | MARY
SCHNEIDER | THOMAS |
SCHOEPE | GUNDER | BURKHARD
SCOTT | DAVID | VAUGHAN
SEA | CORY |
SEA | MARYANNE |
SEE | ASHLEY | KUM LUEN
SEILERN | CECILIA | CLARA
SEILERN | MAXIMILIAN | MARKUS
SENG | HENRY | KWAI CHEUNG
SEVERGNINI | MADDALENA | JOHNS
SGOBBO, JR | ROCCO | JOSEPH
SHAW | JAY | MERVIN
SHAW | MARISSA | FUNG
SHIN | KATHERINE | NAEON
SHU | KARIE | HOI LI
SILVERSTEIN | ADAM | J
SIM | MEI | FONG JESSICA
SIN | SUN | HWAN
SINGER | LAVINIA |
SKOCZYLAS | ADINA | MIRIAM
SLIVKA | WILLIAM | ROBERT
SMITH | STEVEN | LAWRENCE
SOKOLOFF | KATE |
SOKOLOFF | KIRIL |
SOLOVYEV | ANDREY |
SONG | WENDY | CHI KAN
SOS | BEATRICE |
SOS | THOMAS | BELA
SOTIROPOULOS | PANAGIOTA |
SOWELL | TIMOTHY |
SPENCER | CAITLIN | SARAH
SPERLING | JOERG | JACQUES
SRINIVASAN | VENKATRAMAN |
ST-CHARLES | CAROLE |
STEPHANS | SIN | YON
STETON | HONEY | C.
STEWART | JAMES | ROBERT
STOESSEL | PATRICK |
STRESEMANN | WALTER | C G
STRIEBEL | ROMAN | FRANZ
STRUYF | FRANK |
SUDBURY | HAROLD | ARCHIBALD
SUEN | SAMANTHA | WAI-KWAN
SUGANO | BUNPEI |
SUNDRALINGAM | KAVITHA |
SUNDSTOEL | SHEA | ALLISON
SUTTER | RHONDA | G.
SUTTER | RICHARD | G.
SUTTER | SABRA |
SUTTON | ALEXANDRA |
SWIATEK | GRZEGORZ |
SZOKOLOCZY-SYLLABA | ADRIENNE | FRANCOISE
TANG | QING |
TANNER | LARISSA | FLURINA
TATEOSSLAN | ROBERT |
THEIL | PAUL | MARIN
THIAN | CHUAN | KAI
THU | ARE |
THU | ROZA | A.
TOM | SCOTT | PHILIP
TOMEK | MARK | CHRISTOPHER
TRANIE | CHARLES-HENRY |
TRAVIS | ANISHA | LEE
TREVES | JACOPO | GIOVANNI DAVID
TROMBLEY | BRIGITTE |
TSAI | CHON | LIANG
TSAO | ROBERT | WEI TZU
TURNBULL | BENET |
TUTTLE | CYNTHIA | BENSON
USHER | JONATHON | DAVID
VAN DE WAL | CAROLINE | F
VAN DE WAL | LAURENCE | G
VAN DE WAL | PAUL | M
VAN DEN BROEK | LAURENS | VERNER
VAN DEN BROEK | SEVENNE | ANNE
VAN DER WESTHUIZEN | AMANDA |
VAN LAAR | HENRI | B
VENKATESWAR | USHA | BALAN
VIREN | ERIKA | S
VOGT | STEFAN | JOSEF
VON SCHULTHESS | ALEXANDRA | I
VON SCHULTHESS | PATRICK | GUSTAV
WAGG | DAVID | C
WAGG | PATRICIA | A
WAGNER-LAGIER | CAROL | ANDRE
WAI | GILBERT | YIP CARL
WALBRUN | WILLIAM | T
WAN | SANDY | SAN-MING
WANG | JACK | P
WANG | MATTHEW | JIHUA
WANG | PENG |
WANG | SHIRLEY |
WANG | XIAOMAN |
WEBER | MONICA | IDA
WEE | KIMBERLY | WEI-LING
WEI | ERIC |
WEISS | DAN | DOV
WELCH | ARWIND | KUMAR
WHITEHEAD | MARGARET | ANN
WHITELAND | MATTHEW | ARTHUR
WILTON | ANTHONY | NORMAN
WOLFE | IVAN | EDWARD
WONG | ANDREW | SING
WONG | JONATHAN | CHEE HYNN
WONG | KEITH | SHING CHEUNG
WONG | KENT | SHING HONG
WONG | STEPHEN | TSI CHUEN
WONG | TONY | C. K.
WONG, JR | WINSTON |
WRIGHT | MARTIN | CLAUDE
WU | HO-MOU |
YANG | HAN | HSIANG
YANG | XUEMING |
YAU | KEI |
YEE | GLENN | SEKKEMN
YEUNG | KILONE | GERALD
YEUNG | KWOK | ON
YIN | SAMUEL | YEN-LIANG
YONG | CHANGLE | JOVIN
YOON | CHI-WON |
YOSHIMORI | SAE |
YOU | CHONG | HWA
YOUNG | DESMOND | W.
YOUNG | GILBERTO |
YOUNGER | MATTHEW | F
YU | XIAO | YANG
YUAN | MARK | FU-CHUN
ZALATIMO | ZADE |
ZEKRYA | MOHAMED | DAOUD
ZHANG | TINGJUN |
ZHANG | WENYUAN |
ZHANG | YANJUN |
ZHAO | JANE | QIAO
ZHENG | LIN |
ZHOU | ZONGHE |

Dated: April 26, 2011.
Ann Gaudelli,
Manager,18eam 103, Examinations Operations—Philadelphia Compliance Services.

[FR Doc. 2011-11299 Filed 5-9-11; 8:45 am]

BILLING CODE 4830-01-P